DEPARTMENT OF COMMERCE

Foreign-Trade Zones Board

[Order No. 1095]

Approval for Manufacturing Authority (Flavor and Fragrance Products) Within Foreign-Trade Zone 44, Givaudan Roure Corporation, Mt. Olive, NJ

Pursuant to its authority under the Foreign-Trade Zones Act of June 18, 1934, as amended (19 U.S.C. 81a-81u), the Foreign-Trade Zones Board (the Board) adopts the following Order:

Whereas, the New Jersey Commerce and Economic Growth Commission, grantee of Foreign-Trade Zone 44, has made application to the Board for authority on behalf of Giuvaudan Roure Corporation to manufacture flavor and fragrance products under FTZ procedures within FTZ 44(FTZ Docket 44-99, filed 9/3/99); Whereas, notice inviting public comment has been given in the Federal Register (64 FR 49442, ­9/13/99); and,

Whereas, the Board's regulations (15 CFR § 400.31) provide for the authorization of manufacturing within existing zones when it is in the public interest; Whereas, the Board adopts the findings and recommendations of the examiner's report, and finds that the requirements of the FTZ Act and Board's regulations are satisfied, and that approval of the application is in the public interest;

Now therefore, the Board hereby approves the request subject to the FTZ Act and the Board's regulations, including § 400.28.

Signed at Washington, DC, this 12th day of June 2000.
Troy H. Cribb,
Acting Assistant Secretary of Commerce for Import Administration, Alternate Chairman, Foreign-Trade Zones Board.
ATTEST:
Dennis Puccinelli,
Acting Executive Secretary.

[FR Doc. 00-15401 Filed 6-16-00; 8:45 am]

BILLING CODE 3510-DS-P